DEPARTMENT OF TRANSPORTATION

Federal Aviation Administration

Notice of Intent To Rule on Application 04-03-C-00-ROC To Impose and Use the Revenue From a Passenger Facility Charge (PFC) at Greater Rochester International Airport, Rochester, NY

AGENCY: Federal Aviation Administration (FAA), DOT.

ACTION: Notice of Intent To Rule on Application.

SUMMARY: The FAA proposes to rule and invites public comment on the application to impose and use the revenue from a PFC at Greater Rochester International Airport under the provisions of 49 U.S.C. 40117 and Part 158 of the Federal Aviation Regulations (14 CFR part 158).

DATES: Comments must be received on or before May 27, 2004.

ADDRESSES: Comments on this application may be mailed or delivered in triplicate to the FAA at the following address: New York Airports District Office, 600 Old Country Road, Suite 446, Garden City, New York 11530.

In addition, one copy of any comments submitted to the FAA must be mailed or delivered to Terrence G. Slaybaugh, Director of Aviation of Monroe County, New York at the following address: Greater Rochester International Airport, 1200 Brooks Avenue, Rochester, New York 14624.

Air carriers and foreign air carriers may submit copies of written comments previously provided to Monroe County, New York under section 158.23 of Part 158.

FOR FURTHER INFORMATION CONTACT: Philip Brito, Manager, New York Airports District Office, 600 Old Country Road, Suite 446, Garden City, New York 11530, (516) 227-3800. The application may be reviewed in person at this same location.

SUPPLEMENTARY INFORMATION: The FAA proposes to rule and invites public comment on the application to impose and use the revenue from a PFC at Greater Rochester International Airport under the provisions of 49 U.S.C. 40117 and Part 158 of the Federal Aviation Regulations (14 CFR part 158).

On April 19, 2004, the FAA determined that the application to impose and use the revenue from a PFC submitted by Monroe County, New York was substantially complete within the requirements of section 158.25 of Part 158. The FAA will approve or disapprove the application, in whole or in part, no later than July 15, 2004.

The following is a brief overview of the application:

Proposed charge effective date: August 1, 2004.

Proposed charge expiration date: August 1, 2013.

Level of the proposed PFC: $4.50.

Total estimated PFC revenue: $40,310,360.

Brief description of proposed project(s):

1. Terminal Modifications for Baggage Screening;

2. ARFF Equipment;

3. SRE Equipment;

4. Taxiway A Construction;

5. Terminal Improvements.

Class or classes of air carriers which the public agency has requested not be required to collect PFCs: None.

Any person may inspect the application in person at the FAA office listed above under FOR FURTHER INFORMATION CONTACT and at the FAA regional Airports office located at: Federal Aviation Administration, Airports Division, 1 Aviation Plaza, Jamaica, New York 11434-4809.

In addition, any person may, upon request, inspect the application, notice and other documents germane to the application in person at the Monroe County, New York (Greater Rochester International Airport).

Issued in Garden City, New York on April 19, 2004.
Philip Brito,
Manager, New York Airports District Office, Eastern Region.

[FR Doc. 04-9516 Filed 4-26-04; 8:45 am]

BILLING CODE 4910-13-M